DEPARTMENT OF ENERGY

Federal Energy Regulatory Commission

[Project No. 4784-095]

Topsham Hydro Partners Limited Partnership Pejepscot Hydroelectric Project; Notice of Dispute Resolution Panel Meeting and Technical Conference, and Revised Schedule

On August 21, 2018, Commission staff, in response to the filing of a notice of study dispute by the U.S. National Marine Fisheries Service (NMFS) on August 1, 2018, convened a single three-person Dispute Resolution Panel (Panel) pursuant to 18 CFR 5.14(d).

The Panel will hold a technical conference, via conference call, at the time identified below. The technical conference will address the study dispute identified in Enclosure A of the August 1, 2018 filing which includes predation by non-native predators on native anadromous fish, including the endangered Atlantic salmon. The panel will not address the study comments identified in Enclosure B of the August 1, 2018 filing which includes comments on studies which NMFS is not disputing.

The purpose of the technical session is for the disputing agency, applicant, and Commission to provide the Panel with additional information necessary to evaluate the disputed studies. All local, state, and federal agencies, Indian tribes, and other interested parties are invited to participate in the conference call as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at its discretion, limit the speaking time for each participant.

The schedule for completing the Formal Study Dispute Process follows:

August 21, 2018—Panel Convenes

August 28, 2018—Panel submits questions to Parties

September 6, 2018—Parties submit written comments, answers Panel questions

September 11, 2018—Technical Conference Call

September 20, 2018—Panel submits findings to Director Office of Energy Projects

Technical Conference Call

Date: Tuesday September 11, 2018

Time: 10:00 a.m.-12:00 p.m. (EST)

Conference Call-in Information:

Cisco Unified Meeting Place

Meeting ID No. 0255

Call in within DC, 202-502-6888

Call in Outside DC, 1-877-857-1347

For more information, please contact Monte TerHaar, the Dispute Resolution Panel Chair, at monte.terhaar@ferc.gov or 202-502-6035.

Dated: August 21, 2018.
Nathaniel J. Davis, Sr.,
Deputy Secretary.

[FR Doc. 2018-18467 Filed 8-24-18; 8:45 am]

BILLING CODE 6717-01-P